FEDERAL COMMUNICATIONS COMMISSION

[DA 01-2716]

Low Power Television Auction No. 81—Mutually Exclusive Proposals—Additional Settlement Period Announced

AGENCY: Federal Communications Commission.

ACTION: Notice.

SUMMARY: This document provides notice that the Mass Media Bureau has opened an additional settlement window for proposals filed during the limited low power television/television translator/Class A television auction filing window. That settlement window closes January 22, 2002.

DATES: Settlements must be submitted by January 22, 2002.

FOR FURTHER INFORMATION CONTACT: Shaun Maher, Video Services Division, Mass Media Bureau at (202) 418-1600.

SUPPLEMENTARY INFORMATION: This is a summary of a Public Notice released November 20, 2001. The complete text of the Public Notice, including attachment, is available for public inspection and copying during normal business hours in the FCC Reference Center (Room CY-A257), 445 12th Street, SW., Washington, DC. It may also be purchased from the Commission's copy contractor, International Transcription Services, Inc. (ITS, Inc.) 1231 20th Street, NW., Washington, DC 20035, (202) 857-3800. It is also available on the Commission's web site at http://www.fcc.gov.

In this Public Notice, the Mass Media Bureau announces an additional settlement window for those proposals filed during the limited low power television, television translator, and Class A television auction filing window that are mutually exclusive. Parties have until January 22, 2002, to file a settlement if they desire to avoid going to auction.

Federal Communications Commission.
Roy J. Stewart,
Chief, Mass Media Bureau.

[FR Doc. 01-31412 Filed 12-20-01; 8:45 am]

BILLING CODE 6712-01-P